DEPARTMENT OF AGRICULTURE

Rural Housing Service

Notice of Funding for the Rural Housing Demonstration Program

AGENCY: Rural Housing Service, United States Department of Agriculture (USDA).

ACTION: Notice.

SUMMARY: The Rural Housing Service (RHS) an Agency under USDA Rural Development, announces the availability of housing funds for Fiscal Year (FY) 2006 for the Rural Housing Demonstration Program. For FY 2006, USDA Rural Development has set aside $1 million for the Innovative Demonstration Initiatives and is soliciting proposals for a Housing Demonstration program under section 506(b) of title V of the Housing Act of 1949. Under section 506(b), USDA Rural Development may provide loans to low income borrowers to purchase innovative housing units and systems that do not meet existing published standards, rules, regulations, or policies. The intended effect is to increase the availability of affordable Rural Housing (RH) for low-income families through innovative designs and systems.

EFFECTIVE DATE: July 6, 2006.

FOR FURTHER INFORMATION CONTACT: Gloria L. Denson, Senior Loan Specialist, Single Family Housing Direct Loan Division, RHS, U.S. Department of Agriculture, STOP 0783, 1400 Independence Ave., SW., Washington, DC 20250-0783, Telephone (202) 720-1474. (This is not a toll free number.)

SUPPLEMENTARY INFORMATION: Under current standards, regulations, and policies, some low-income rural families lack sufficient income to qualify for loans to obtain adequate housing. Section 506(b) of title V of the Housing Act of 1949, 42 U.S.C. 1476, authorizes a housing demonstration program that could result in housing that these families can afford. Section 506(b) imposes two conditions: (1) That the health and safety of the population of the areas in which the demonstrations are carried out will not be adversely affected, and (2) That the aggregate expenditures for the demonstration may not exceed $10 million in any fiscal year.

Rural Development State Directors are authorized in FY 2006 to accept demonstration concept proposals from individuals.

The objective of the demonstration programs is to test new approaches to constructing housing under the statutory authority granted to the Secretary of Agriculture. Rural Development will review each application for completeness and accuracy. Some demonstration proposals may not be consistent with some of the provisions of our 7 CFR part 3550—Direct Single Family Housing Loans and Grants regulation. Under section 506(b) of the Housing Act of 1949, the Agency may provide loans for innovative housing design units and systems which do not meet existing published standards, rules, regulations, or policies.

The Equal Credit Opportunity Act and Title VIII of the Civil Rights Act of 1968 provide that a program such as this be administered affirmatively so that individuals of similar low-income levels in the housing market area have housing choices available to them regardless of their race, color, religion, sex, national origin, familial status, and disability. Under Section 504 of the Rehabilitation Act of 1973, Rural Development makes reasonable accommodations to permit persons with disabilities to apply for agency programs. Executive Order 12898 requires the Agency to conduct a Civil Rights Impact Analysis on each project prior to loan approval. Also, the requirements of Executive Order 11246 are applicable regarding equal employment opportunity when the proposed contract exceeds $10,000.

Completed applications that have been determined to carry out the objectives of the program will be considered on a first come, first served basis based on the date a completed application was submitted. An application is considered complete only if the “Application for Approval of Housing Innovation” is complete in content, contains information related to the criteria and all applicable additional information required by the application form has been provided. All application packages must be in accordance with the technical management requirements and address the criteria in the Proposal Content. The application, technical management requirements, Proposal Content and Criteria, and further information may be obtained from the Rural Development State office in each state. (See the State Office address list at the end of this notice or access the Web site at http://www.rurdev.usda.gov/recd_map.html.) A submitter of an incomplete application will be advised in writing of additional information needed for continued processing.

The following evaluation factors will not be weighted and are non-competitive. Rural Development, in its analysis of the proposals received, will consider whether the proposals will carry out the objectives of this demonstration effort in accordance with the following criteria:

A. Housing Unit Concept

1. A proposal must be well beyond the “idea” state. Sufficient testing must have been completed to demonstrate its feasibility. The proposal must be judged ready for full scale field testing in a rural setting.

2. Ability of the housing unit to provide for the protection of life, property, and for the safety and welfare of the consumer, general public, and occupants through the design, construction, quality of materials, use, and maintenance of the housing unit.

3. Flexibility of the housing units in relation to varying types of housing and varying site considerations.

4. Flexibility of the housing unit concept, insofar as it provides the ability to adjust or modify unit size and arrangements, either during design or after construction.

5. Efficiency in the use of materials and labor, with respect to cost in place, conservation of materials, and the effective use of labor skills. Potential for use in the Mutual Self-Help Housing program will be considered.

6. Selection of materials for durability and ease of maintenance.

7. Concepts for the effective use of land and development.

B. Organization Capabilities

1. The experience and “know-how” of the proposed organization or individual to implement construction of the housing unit concept in relation to the requirements of Rural Development's housing programs.

2. The management structure and organization of the proposer.

3. The quality and diversity of management and professional talent proposed as “key individuals.”

4. The management plan of how this effort will be conducted.

C. Cost and Price Analysis

1. The level of costs which are proposed, as they may compare with other proposals and be considered realistic for the efforts planned. Also, the quantity and level of detail in the information supplied.

2. Projected cost of “housing in place,” with particular reference to housing for very low and low-income families.

An acceptable proposal will be sent by the State Director to the National Office for concurrence by the Rural Development Administrator before the State Director may approve it. If the proposal is not selected, the State Director will so notify the applicant in writing, giving specific reasons why the proposal was not selected. The funds for the RH Demonstration program are section 502 single family housing funds and are available to housing applicants who wish to purchase an approved demonstration dwelling. Funds cannot be reserved or guaranteed under the demonstration housing concept. There is no guarantee that a market exists for demonstration dwellings, and this does not ensure that an eligible loan applicant will be available for such a section 502 RH dwelling. If there is no available Rural Development eligible loan applicant, the RH demonstration program applicant will have to advance funds to complete the construction of the demonstration housing, with the risk that there may be no Rural Development applicant or other purchaser from which the builder will recover his or her development and construction costs.

This program or activity is listed in the Catalog of Federal Domestic Assistance under No. 10.410. For the reasons contained in 7 CFR part 3015, subpart V, and RD Instruction 1940-J, “Intergovernmental Review of Rural Development Programs and Activities,” this program or activity is excluded from the scope of Executive Order 12372, which requires intergovernmental consultation with State and local officials.

All interested parties must make a written request for a proposal package to the State Director in the State in which the proposal will be submitted; Rural Development will not be liable for any expenses incurred by respondents in the development and submission of applications.

The reporting requirements contained in this notice have been approved by the Office of Management and Budget (OMB) under Control Number 0575-0172.

Dated: June 26, 2006.
David J. Villano,
Acting Administrator, Rural Housing Service.

The following is an address list of Rural Development State Offices across the nation:

ALABAMA

Sterling Centre, 4121 Carmichael Road, Suite 601, Montgomery, AL 36106-3683, (334) 279-3400, TDD (334) 279-3495

ALASKA

Suite 201, 800 W. Evergreen, Palmer, AK 99645-6539, (907) 761-7705, TDD (907) 761-7786

ARIZONA

230 North 1st Avenue, Suite 206, Phoenix, AZ 85012-2906, (602) 280-8701, TDD (602) 280-8705

ARKANSAS

Room 3416, 700 W. Capitol, Little Rock, AR 72201-3225, (501) 301-3200, TDD (501) 301-3279

CALIFORNIA

430 G Street, Agency 4169, Davis, CA 95616-4169, (530) 792-5800, TDD (530) 792-5848

COLORADO

Room E100, 655 Parfet Street, Lakewood, CO 80215, (720) 544-2904, TDD—No phone number

DELAWARE & MARYLAND

1221 College Park Drive, Suite 200, Dover, Delaware 19904, (302) 857-3601, TDD (302) 857-3585)

FLORIDA & VIRGIN ISLANDS

4440 NW 25th Place, Gainesville, FL 32606-6563, (352) 338-3435, TDD (800) 438-1832

GEORGIA

Stephens Federal Building, 355 E. Hancock Avenue, Athens, GA 30601-2768, (706) 546-2162, TDD (706) 546-2034

HAWAII

Room 311, Federal Building, 154 Waianuenue Avenue, Hilo, HI 96720, (808) 933-8302, TDD (808) 933-8321

IDAHO

Suite A1, 9173 W. Barnes Drive, Boise, ID 83709, (208) 378-5600, TDD 208 378-5644

ILLINOIS

2118 West Park Court, Suite A, Champaign, IL 61821, (217) 403-6222, TDD (217) 403-6240

INDIANA

5975 Lakeside Boulevard, Indianapolis, IN 46278, (317) 290-3100, TDD (317) 290-3343

IOWA

Room 873, 210 Walnut Street, Des Moines, IA 50309, (515) 284-4663, TDD (515) 284-4858

KANSAS

1303 First American Place, Suite 100, Topeka, KS 66604, (785) 271-2700, TDD (785) 271-2767

KENTUCKY

Suite 200, 771 Corporate Drive, Lexington, KY 40503, (859) 224-7300, TDD (859) 224-7422

LOUISIANA

3727 Government Street, Alexandria, LA 71302, (318) 473-7920, TDD (318) 473-7655

MAINE

PO Box 405, 967 Illinois Avenue, Suite 4, Bangor, ME 04402-0405, (207) 990-9106, TDD (207) 942-7331

MASSACHUSETTS, CONNECTICUT, RHODE ISLAND

451 West Street, Amherst, MA 01002, (413) 253-4300, TDD (413) 253-4590

MICHIGAN

Suite 200, 3001 Coolidge Road, East Lansing, MI 48823, (517) 324-5100, TDD (517) 324-5169

MINNESOTA

Suite 410, 375 Jackson Street, St. Paul, MN 55101-1853, (651) 602-7835, TDD (651) 602-7830

MISSISSIPPI

Federal Building, Suite 831, 100 W. Capitol Street, Jackson, MS 39269, (601) 965-4316, TDD—No phone number

MISSOURI

Parkade Center, Suite 235, 601 Business Loop 70 West, Columbia, MO 65203, (573) 876-0976, TDD (573) 876-9480

MONTANA

Unit 1, Suite B, 900 Technology Boulevard, Bozeman, MT 59715, (406) 585-2580, TDD (406) 585-2562

NEBRASKA

Federal Building, Room 152, 100 Centennial Mall N, Lincoln, NE 68508, (402) 437-5550, TDD (402) 437-5093

NEVADA

1390 S. Curry Street, Carson City, NV 89703-9910, (775) 887-1222, TDD (775) 885-0633

NEW JERSEY

5TH Floor North, Suite 500, 8000 Midlantic Drive, Mt. Laurel, NJ 08054, (856) 787-7700, TDD (856) 787-7784

NEW MEXICO

Room 255, 6200 Jefferson Street, NE, Albuquerque, NM 87109, (505) 761-4950, TDD (505) 761-4938

NEW YORK

The Galleries of Syracuse, 441 S. Salina Street, Suite 357, Syracuse, NY 13202-2541, (315) 477-6400, TDD (315) 477-6447

NORTH CAROLINA

4405 Bland Road, Raleigh, NC 27609, (919) 873-2000, TDD (919) 873-2003

NORTH DAKOTA

Federal Building, Room 208, 220 East Rosser, PO Box 1737, Bismarck, ND 58502-1737, (701) 530-2044, TDD (701) 366-6889

OHIO

Federal Building, Room 507, 200 N. High Street, Columbus, OH 43215-2418, (614) 255-2400, TDD (614) 255-2554

OKLAHOMA

Suite 108, 100 USDA, Stillwater, OK 74074-2654, (405) 742-1000, TDD (405) 742-1007

OREGON

Suite 1410, 101 SW Main, Portland, OR 97204-3222, (503) 414-3300, TDD (503) 414-3387

PENNSYLVANIA

Suite 330, One Credit Union Place, Harrisburg, PA 17110-2996, (717) 237-2299, TDD (717) 237-2261

PUERTO RICO

IBM Building—Suite 601, 654 Munos Rivera Avenue, San Juan, PR 00918-6106, (787) 766-5095, TDD (787) 766-5332,

SOUTH CAROLINA

Strom Thurmond Federal Building, 1835 Assembly Street, Room 1007, Columbia, SC 29201, (803) 765-5163, TDD (803) 765-5697

SOUTH DAKOTA

Federal Building, Room 210, 200 Fourth Street, SW, Huron, SD 57350, (605) 352-1100, TDD (605) 352-1147

TENNESSEE

Suite 300, 3322 W. End Avenue, Nashville, TN 37203-1084, (615) 783-1300, TDD (615) 783-1397

TEXAS

Federal Building, Suite 102, 101 S. Main, Temple, TX 76501, (254) 742-9700, TDD (254) 742-9712

UTAH

Wallace F. Bennett Federal Building, 125 S. State Street, Room 4311, Salt Lake City, UT 84138, (801) 524-4320, TDD (801) 524-3309

VERMONT & NEW HAMPSHIRE

City Center, 3rd Floor, 89 Main Street, Montpelier, VT 05602, (802) 828-6000, TDD (802) 223-6365

VIRGINIA

Culpeper Building, Suite 238, 1606 Santa Rosa Road, Richmond, VA 23229, (804) 287-1550, TDD (804) 287-1753

WASHINGTON

Suite B, 1835 Black Lake Blvd., SW., Olympia, WA 98512-5715, (360) 704-7740, TDD (360) 704-7772 (Westside), TDD (509) 664-0205 (Eastside)

WEST VIRGINIA

Federal Building, Room 320, 75 High Street, Morgantown, WV 26505-7500, (304) 284-4860, TDD (304) 284-4836

WISCONSIN

4949 Kirschling Court, Stevens Point, WI 54481, (715) 345-7600, TDD (715) 345-7614

WYOMING

P.O. Box 11005, Federal Building, Room 1005, 100 East B, Casper, WY 82602, (307) 261-6300, TDD (307) 233-6733

[FR Doc. E6-10482 Filed 7-5-06; 8:45 am]

BILLING CODE 3410-XV-P